DEPARTMENT OF COMMERCE

Foreign-Trade Zones Board

[Order No. 1821]

Voluntary Termination of Foreign-Trade Subzone 9D, Maui Pineapple Company, Ltd., Kahului, Maui, HI

Pursuant to its authority under the Foreign-Trade Zones Act of June 18, 1934, as amended (19 U.S.C. 81a-81u), and the Foreign-Trade Zones Board Regulations (15 CFR part 400), the Foreign-Trade Zones Board (the Board) hereby adopts the following order:

Whereas, on April 25, 1986, the Board issued a grant of authority to the State of Hawaii (grantee of FTZ 9) authorizing the establishment of Foreign-Trade Subzone 9D at the Maui Pineapple Company, Ltd., facility in Kahului, Maui, Hawaii (Board Order 329, 51 FR 16367, 05/02/1986);

Whereas, the State of Hawaii has advised that zone procedures are no longer needed at the facility and requested voluntary termination of Subzone 9D (FTZ Docket 14-2012); and,

Whereas, the request has been reviewed by the FTZ Staff and U.S. Customs and Border Protection officials, and approval has been recommended;

Now, therefore, the Foreign-Trade Zones Board terminates the subzone status of Subzone 9D, effective this date.

Signed at Washington, DC, this 16th day of April 2012.
Paul Piquado,
Assistant Secretary of Commerce for Import Administration, Alternate Chairman, Foreign-Trade Zones Board.
Attest:

Andrew McGilvray,
Executive Secretary.

[FR Doc. 2012-9824 Filed 4-23-12; 8:45 am]

BILLING CODE 3510-DS-P